DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Understanding the Establishment and Maintenance of Pioneering Transition Programs—New—SAMHSA's Center for Mental Health Services will seek information about the establishment and maintenance of programs funded in part by state child mental health agencies that prepare youth from these agencies for adult functioning, and can provide these services continuously beyond the upper age limit of state child mental health eligibility. Many, if not most, of the youth served in state child mental health systems cannot access state adult mental health services; thus, the ability to provide continuing transition support services to this population throughout the period of transition, roughly to the age of 25, is critical to the likelihood of adult success.

The small number of pioneering programs in the country that have successfully negotiated the system to achieve this status have much to teach those trying to develop better transition support systems. In particular, the history of how the program was established, what it takes to maintain the program, the challenges the programs have faced in providing transition supports and their solutions to these problems can help others, and prevent needless duplication of trial and error. This project will begin the development of guidelines for other attempting to bridge this important service gap through discovering shared and unique approaches to establishing and maintaining pioneering transition programs, and the challenges that they face in providing services to this grossly underserved population.

Nine such programs have been identified. Another four programs, that have not been maintained, will also be identified, yielding a total of 13 programs that will be examined. Examination will occur primarily through telephone interview of multiple stakeholders per program. Program information will also be requested electronically. Stakeholders from each program will consist of the following: 2 state-level child mental health administrators, 2 program-level administrators/staff, and up to an additional 3 key stakeholders that are identified during the process of interviewing the first 4 stakeholders. Stakeholders will be asked about 3 issues: (1) How the program was established; (2) efforts to keep the program open and funded; and (3) factors that facilitated or inhibited its opening or maintenance. Sufficient detail will be sought to determine the unique efforts needed for these kinds of programs, as opposed to common efforts made to establish any new program. Two questionnaires will be used to obtain this information, one for program administrators or staff and the other for other stakeholders.

The following table summarizes the estimated response burden for this project.

Respondent | Number of respondents | Responses/ respondents | Total responses | Hours per response | Total hour burden
Pioneering Programs: Staff/Administrators | 26 | 1 | 26 | 1.5 | 39
Pioneering Programs: Stakeholders | 52 | 1 | 52 | 1.0 | 52
Total | 78 | 1 | 3978 |  | 91

Send comments to Nancy Pearce, SAMHSA Reports Clearance Officer, Room 16-105, Parklawn Building, 5600 Fishers Lane, Rockville, MD 20857. Written comments should be received by September 20, 2004.

Dated: July 14, 2004.
Anna Marsh,
Executive Officer, SAMHSA.

[FR Doc. 04-16546 Filed 7-20-04; 8:45 am]

BILLING CODE 4162-20-P